DEPARTMENT OF COMMERCE

National Oceanic and Atmospheric Administration

RIN: 0648-XC65

Pacific Fishery Management Council; Public Meeting

AGENCY: National Marine Fisheries Service (NMFS), National Oceanic and Atmospheric Administration (NOAA), Commerce.

ACTION: Notice of a public meeting.

SUMMARY: The Pacific Fishery Management Council's (Council) Trawl Individual Quota Committee (TIQC) will hold a working meeting, which is open to the public.

DATES: The TIQC meeting will be held Thursday, October 11, 2007, from 8 a.m. until business for the day is completed. The TIQC meeting will reconvene Friday, October 12, 2007, at 8 a.m. and adjourn by 3 p.m.

ADDRESSES: The TIQC meeting will be held at the Hotel Deca Seattle, Chancellor Room, 4507 Brooklyn Avenue NE, Seattle, WA 98105; telephone: (206) 634-2000.

Council address: Pacific Fishery Management Council, 7700 NE Ambassador Place, Suite 101, Portland, OR 97220-1384.

FOR FURTHER INFORMATION CONTACT: Mr. Jim Seger, Staff Officer; telephone: (503) 820-2280.

SUPPLEMENTARY INFORMATION: The Council is considering an individual quota program to cover limited entry trawl landings in the West Coast groundfish fishery. Vessel co-op alternatives are also being considered. The purpose of the TIQC working meeting is to review and further develop alternatives under analysis.

Although non-emergency issues not contained in the meeting agenda may come before the TIQC for discussion, those issues may not be the subject of formal TIQC action during this meeting. TIQC action will be restricted to those issues specifically listed in this notice and any issues arising after publication of this notice that require emergency action under Section 305(c) of the Magnuson-Stevens Fishery Conservation and Management Act, provided the public has been notified of the TIQC's intent to take final action to address the emergency.

Special Accommodations

This meeting is physically accessible to people with disabilities. Requests for sign language interpretation or other auxiliary aids should be directed to Ms. Carolyn Porter at (503) 820-2280 at least 5 days prior to the meeting date.

Dated: September 12, 2007.
Emily Menashes,
Acting Director, Office of Sustainable Fisheries, National Marine Fisheries Service.

[FR Doc. E7-18224 Filed 9-14-07; 8:45 am]

BILLING CODE 3510-22-S